DEPARTMENT OF COMMERCE

International Trade Administration

[A-570-939]

Tow-Behind Lawn Groomers and Certain Parts Thereof From the People's Republic of China: Final Results of the Expedited Third Sunset Review of the Antidumping Duty Order

AGENCY: Enforcement and Compliance, International Trade Administration, Department of Commerce.

SUMMARY: The U.S. Department of Commerce (Commerce) finds that revocation of the antidumping duty (AD) order on tow-behind lawn groomers and certain parts thereof (lawn groomers) from the People's Republic of China (China) would be likely to lead to continuation or recurrence of dumping, at the levels indicated in the “Final Results of Sunset Review” section of this notice.

DATES: Applicable January 8, 2026.

FOR FURTHER INFORMATION CONTACT: David De Falco, Trade Agreements Policy and Negotiations, Enforcement and Compliance, International Trade Administration, U.S. Department of Commerce, 1401 Constitution Avenue NW, Washington, DC 20230; telephone: (202) 482-2178.

SUPPLEMENTARY INFORMATION:

Background

On August 3, 2009, Commerce published the Order in the Federal Register.¹ On July 1, 2025, Commerce published the notice of initiation of this third sunset review of the Order, pursuant to section 751(c) of the Tariff Act of 1930, as amended (the Act).² On July 11, 2025, Commerce received a timely and complete notice of intent to participate in the sunset review from the domestic interested party ³ within the deadline specified in the 19 CFR 351.218(d)(1)(i).⁴ The domestic interested party claimed the interested party status within the meaning of section 771(9)(C) of the Act as a manufacturer of the domestic like product in the United States.⁵ On July 21, 2025, Commerce notified the U.S. International Trade Commission (ITC) that it had received a notice of intent to participate from the domestic interested party.⁶

¹ See Certain Tow Behind Lawn Groomers and Certain Parts Thereof from the People's Republic of China: Antidumping Duty Order, 74 FR 38395 (August 3, 2009) (Order).

² See Initiation of Five-Year (Sunset) Reviews, 90 FR 28722 (July 1, 2025).

³ The domestic interested party is Agri-Fab, Inc.

⁴ See Domestic Interested Party's Letter, “Third Five-Year (“Sunset”) Review of Antidumping Duty Order on Certain Tow-Behind Lawn Groomers and Certain Parts Thereof from The People's Republic of China; Notice of Intent to Participate,” dated July 11, 2025.

⁵ Id. at 2.

⁶ See Commerce's Letter, “Sunset Reviews Initiated on July 1, 2025,” dated July 21, 2025.

On July 30, 2025, pursuant to 19 CFR 351.218(d)(3)(i), the domestic interested party filed a timely and adequate substantive response.⁷ Commerce did not receive a substantive response from any respondent interested party. On August 22, 2025, Commerce notified the ITC that it did not receive substantive response from any respondent interested parties.⁸ As a result, pursuant to section 751(c)(3)(B) of the Act and 19 CFR 351.218(e)(1)(ii)(C)(2), Commerce is conducting an expedited (120-day) sunset review of the Order.

⁷ See Domestic Interested Party's Letter, “Third Five-Year (“Sunset”) Review of Antidumping Duty Order on Certain Tow-Behind Lawn Groomers and Certain Parts Thereof from the People's Republic of China; Agri-Fab's Response to Notice of Initiation,” dated July 30, 2025 (Substantive Response).

⁸ See Commerce's Letter, “Sunset Reviews Initiated on July 1, 2025,” dated August 22, 2025.

Due to the lapse in appropriations and Federal Government shutdown, on November 14, 2025, Commerce tolled all deadlines in administrative proceedings by 47 days.⁹ Additionally, due to a backlog of documents that were electronically filed via Enforcement and Compliance's Antidumping and Countervailing Duty Centralized Electronic Service System (ACCESS) during the Federal Government shutdown, on November 24, 2025, Commerce tolled all deadlines in administrative proceedings by an additional 21 days.¹⁰ Accordingly, the deadline for these final results is now January 5, 2026.

⁹ See Memorandum, “Deadlines Affected by the Shutdown of the Federal Government,” dated November 14, 2025.

¹⁰ See Memorandum, “Tolling of all Case Deadlines,” dated November 24, 2025.

Scope of the Order

The product covered by these Order is lawn groomers from China. For the full description of the scope of the Order, see the Issues and Decisions Memorandum.¹¹

¹¹ See Memorandum, “Issues and Decision Memorandum for the Final Results of the Expedited Third Sunset Review of the Antidumping Duty Order on Tow-Behind Lawn Groomers and Certain Parts Thereof from the People's Republic of China,” dated concurrently with, and hereby adopted by, this notice (Issues and Decision Memorandum).

Analysis of Comments Received

A complete discussion of all issues raised in this sunset review, including the likelihood of continuation or recurrence of dumping in the event of revocation of the Order and the magnitude of the margins likely to prevail if the Order was to be revoked, is provided in the Issues and Decision Memorandum.¹² A list of the topics discussed in the Issues and Decision Memorandum is attached in the appendix to this notice. The Issues and Decision Memorandum is a public document and is on file electronically via ACCESS. ACCESS is available to registered users at https://access.trade.gov. In addition, a complete version of the Issues and Decision Memorandum can be directly accessed at https://access.trade.gov/public/FRNoticesListLayout.aspx.

¹² Id.

Final Results of Sunset Reviews

Pursuant to sections 751(c)(1), and 752(c)(1) and (3) of the Act, Commerce determines that revocation of the Order would be likely to lead to continuation or recurrence of dumping, and that the magnitude of the dumping margins likely to prevail would be weighted-average dumping margins up to 386.28 percent.

Notification Regarding Administrative Protective Orders (APOs)

This notice also serves as the only reminder to parties subject to an APO of their responsibility concerning the return or destruction of proprietary information disclosed under APO in accordance with 19 CFR 351.305. Timely notification of the return or destruction of APO materials, or conversion to judicial protective, orders is hereby requested. Failure to comply with the regulations and terms of an APO is a violation which is subject to sanction.

Notification to Interested Parties

We are issuing and publishing these final results in accordance with sections 751(c), 752(c), and 777(i)(1) of the Act, and 19 CFR 351.218 and 19 CFR 351.221(c)(5)(ii).

Dated: January 5, 2026.
Abdelali Elouaradia,
Deputy Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margins of Dumping Likely to Prevail

VII. Final Results of Sunset Review

VIII. Recommendation

[FR Doc. 2026-00182 Filed 1-7-26; 8:45 am]

BILLING CODE 3510-DS-P